DEPARTMENT OF COMMERCE

United States Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Public User ID Badging.

Form Number(s): PTO-2030, PTO-2224.

Agency Approval Number: 0651-0041.

Type of Request: Revision of a currently approved collection.

Burden: 1,097 hours annually.

Number of Respondents: 11,369 responses per year.

Avg. Hours Per Response: The USPTO estimates that it will take the public approximately 5 minutes (0.08 hours) to renew a security identification badge, including preparing and submitting the completed form. The USPTO estimates that it will take the public approximately 5 to 10 minutes (0.08 to 0.17 hours) to complete the other items in this collection, including the time to gather the necessary information, prepare the appropriate form, and submit the completed request.

Needs and Uses: The USPTO is required by 35 U.S.C. 41(i)(1) to maintain a Public Search Facility to provide patent and trademark collections for searching and retrieval of information. In order to manage the patent and trademark collections, the USPTO issues online access cards to customers who wish to use the electronic search systems at one of the Public Search Facilities. Under the authority provided in 41 CFR Part 102-81, the USPTO also issues security identification badges to members of the public who wish to use the facilities at the USPTO. The public uses this collection to request an online access card, a security identification badge, or to register for user training classes. This collection currently contains forms for the Application for Public User ID (Online Access Card) (PTO-2030), Security Identification Badges for Public Users (PTO-2224), and two user training application forms. The USPTO is updating this information collection to include the renewal of security identification badges, to delete the replacement fee for online access cards, and to revise the estimated annual responses in order to reflect current submissions. No new forms are being added to this collection.

Affected Public: Individuals or households, businesses or other for-profits, not-for-profit institutions, farms, the Federal Government, and state, local or tribal governments.

Frequency: On occasion with annual renewals for online access cards and security identification badges.

Respondent's Obligation: Required to obtain or retain benefits.

OMB Desk Officer: David Rostker, (202) 395-3897.

Copies of the above information collection proposal can be obtained by any of the following methods:

• E-mail: Susan.Brown@uspto.gov. Include “0651-0041 copy request” in the subject line of the message.

• Fax: 571-273-0112, marked to the attention of Susan Brown.

• Mail: Susan K. Brown, Records Officer, Office of the Chief Information Officer, Architecture, Engineering and Technical Services, Data Architecture and Services Division, U.S. Patent and Trademark Office, P.O. Box 1450, Alexandria, VA 22313-1450.

Written comments and recommendations for the proposed information collection should be sent on or before May 18, 2006 to David Rostker, OMB Desk Officer, Room 10202, New Executive Office Building, 725 17th Street, NW., Washington, DC 20503.

Dated: April 12, 2006.
Susan K. Brown,
Records Officer, USPTO, Office of the Chief Information Officer, Architecture, Engineering and Technical Services, Data Architecture and Services Division.

[FR Doc. E6-5721 Filed 4-17-06; 8:45 am]

BILLING CODE 3510-16-P